DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 8,911,145: METHOD TO MEASURE THE CHARACTERISTICS IN AN ELECTRICAL COMPONENT//Patent No. 8,336,054: HAND LAUNCHABLE UNMANNED AERIAL VEHICLE//Patent No. 8,855,961: BINARY DEFINTION FILES//Patent No. 8,904,934: SEGMENTED LINEAR SHAPED CHARGE//Patent No. 9,081,409: EVENT DETECTION CONTROL SYSTEM FOR OPERATING A REMOTE SENSOR OR PROJECTILE SYSTEM//Patent No. 8,977,507: EVENT DETECTION SYSTEM USER INTERFACE SYSTEM COUPLED TO MULTIPLE SESNOR OR PROJECTILE SYSTEMS//Patent No. 8,905,282 ACCESSORY MOUNTING APPARATUS FOR A VEHICLE//Patent No. 9,083,078 UNIVERSAL ANTENNA MOUNTING BRACKET//Patent No. 8,967,049 SOLID LINED FABRIC AND A METHOD FOR MAKING//Patent No. 8,850,950 HELICOPTER WEAPON MOUNTING SYSTEM.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: March 18, 2016.
N.A. Hagerty-Ford,
Commander, Judge Advocate General's Corps, U.S. Navy, Federal Register Liaison Officer.

[FR Doc. 2016-06653 Filed 3-23-16; 8:45 am]

BILLING CODE 3810-FF-P